DEPARTMENT OF ENERGY

Electricity Advisory Committee

AGENCY: Department of Energy, Office of Electricity.

ACTION: Notice of open meeting.

SUMMARY: This notice announces a meeting of the Electricity Advisory Committee. The Federal Advisory Committee Act requires that public notice of these meetings be announced in the Federal Register.

DATES:

Wednesday, October 20, 2021; 11:45 a.m.-6:00 p.m. EST

Thursday, October 21, 2021; 11:45 a.m.-5:00 p.m. EST

ADDRESSES: Due to ongoing precautionary measures surrounding the spread of COVID-19, the October meeting of the EAC will be held via WebEx video and teleconference. In order to track all participants, the Department is requiring that those wishing to attend register for the meeting here: https://www.energy.gov/oe/october-20-21-2021-meeting-electricity-advisory-committee. Please note, you must register for each day you would like to attend.

FOR FURTHER INFORMATION CONTACT: Christopher Lawrence, Designated Federal Officer, Office of Electricity, U.S. Department of Energy, Washington, DC 20585; Telephone: (202) 586-5260 or Email: Christopher.Lawrence@hq.doe.gov.

SUPPLEMENTARY INFORMATION:

Purpose of the Committee: The Electricity Advisory Committee (EAC) was established in accordance with the provisions of the Federal Advisory Committee Act (FACA), as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda:

October 20, 2021

11:45 a.m.-12:00 p.m. WebEx Attendee Sign-On

12:00 p.m.-12:20 p.m. Welcome, Introductions, Developments since the April 2021 Meeting

12:20 p.m.-12:50 p.m. Update on Office of Electricity Programs and Initiatives

12:50 p.m.-1:20 p.m. Overview of DOE Conducted Carbon-Free Energy Futures Analysis

1:20 p.m.-1:50 p.m. Overview of DOE/OE Energy Storage Activities

1:50 p.m.-2:00 p.m. Break

2:00 p.m.-3:00 p.m. Overview and Discussion of Energy Industrial Base Project

3:00 p.m.-4:30 p.m. Discussion of Supply Chain Congressional Reports Focused on Supply Chain of Large Power Transformers and Battery Storage

4:30 p.m.-4:40 p.m. Break

4:40 p.m.-5:40 p.m. Panel Discussion: Blackstart in the Variable Generation Era

5:40 p.m.-6:00 p.m. Wrap-up and Adjourn Day 1

October 21, 2021

11:45 a.m.-12:00 p.m. WebEx Attendee Sign-On

12:00 p.m.-12:10 p.m. Day 2 Opening Remarks

12:10 p.m.-1:10 p.m. Update and Discussion on Section 8008 Voluntary Model Pathways Development

1:10 p.m.-1:45 p.m. Transmission-Distribution Coordination

1:45 p.m.-3:30 p.m. Panel and Discussion: FERC 2222 and Operational Coordination

3:30 p.m.-3:40 p.m. Break

3:40 p.m.-3:55 p.m. Subcommittee Update: Energy Storage

3:55 p.m.-4:10 p.m. Subcommittee Update: Smart Grid

4:10 p.m.-4:25 p.m. Subcommittee Update: Grid Resilience for National Security

4:25 p.m.-4:40 p.m. Public Comments

4:40 p.m.-5:00 p.m. Wrap-up and Adjourn October 2021 Meeting of the EAC

The meeting agenda may change to accommodate EAC business. For EAC agenda updates, see the EAC website at: http://energy.gov/oe/services/electricity-advisory-committee-eac.

Public Participation: The EAC welcomes the attendance of the public at its meetings. Individuals who wish to offer public comments at the EAC meeting may do so on October 21, but must register in advance. Approximately 15 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee October 2021 Meeting,” to Mr. Christopher Lawrence at Christopher.lawrence@hq.doe.gov.

Minutes: The minutes of the EAC meeting will be posted on the EAC web page at http://energy.gov/oe/services/electricity-advisory-committee-eac. They can also be obtained by contacting Mr. Christopher Lawrence at the address above.

Signed in Washington, DC, on September 28, 2021.
LaTanya R. Butler,
Deputy Committee Management Officer.

[FR Doc. 2021-21415 Filed 9-30-21; 8:45 am]

BILLING CODE 6450-01-P